DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from March 2, to March 6, 2009.

For further information, please contact Edson Beall via: United States Postal Service mail, at the National Register of Historic Places, 2280, National Park Service, 1849 C St. NW., Washington, DC 20240; in person (by appointment), 1201 Eye St. NW, 8th floor, Washington DC 20005; by fax, 202-371-2229; by phone, 202-354-2255; or by e-mail, Edson_Beall@nps.gov.

Dated: April 13, 2009.
J. Paul Loether,
Chief, National Register of Historic Places/National Historic Landmarks Program.

KEY: State, County, Property Name, Address/Boundary, City, Vicinity, Reference Number, Action, Date, Multiple Name

IOWA

Polk County

Methodist Deaconess Institute—Esther Hall, 921 Pleasant St., Des Moines, 09000067, LISTED, 3/04/09

NEBRASKA

Burt County

Burt County State Bank, 246 S. 13th St., Tekamah, 09000068, LISTED, 3/04/09

Douglas County

Nicholas Street Historic District, Bounded by N. 11th St., Izard, N. 14th St. and a line parallel to and roughly 450′ N. of Nicholas St., Omaha, 09000070, LISTED, 3/02/09

Parker, Frank, Archeological Site, Address Restricted, Fort Calhoun vicinity, 09000069 LISTED, 3/04/09

Lincoln County

North Platte US Post Office and Federal Building, 416 N. Jeffers St., North Platte, 09000071, LISTED, 3/04/09

OKLAHOMA

Craig County

Little Cabin Creek Bridge, US 60/69 over Little Cabin Creek, SE of jct with US 44, Vinita vicinity, 09000072, LISTED, 3/04/09 (Route 66 in Oklahoma MPS)

Kay County

Huston Elementary School, 304 Vinnedge, Blackwell, 09000073, LISTED, 3/04/09

Washington Elementary School, 723 W. College, Blackwell, 09000076, LISTED, 3/04/09

Nowata County

Opossum Creek Bridge, Co. Rd. NS-413 over Opossum Creek, South Coffeyville vicinity, 09000077, LISTED, 3/04/09

TENNESSEE

Davidson County

Dyer, Arthur J., Observatory, 1000 Oman Dr., Brentwood, 09000114, LISTED, 3/06/09

Montgomery County

RiverView Mounds Archeological Site (40MT44), Address Restricted, Clarksville vicinity, 09000116, LISTED, 3/04/09

Shelby County

Forrest Park Historic District, S. Manassas St. and Union Ave., Memphis, 09000118, LISTED, 3/04/09

VIRGINIA

Wise County

Flat Gap High School, Rt. 671, Pound vicinity, 09000123, LISTED, 3/06/09

WISCONSIN

Oneida County

West Side School, 718 W. Phillip St., Rhinelander, 09000124, LISTED, 3/05/09

[FR Doc. E9-8894 Filed 4-16-09; 8:45 am]

BILLING CODE